DEPARTMENT OF TRANSPORTATION

Federal Aviation Administration

Aging Transport Systems Rulemaking Advisory Committee Meeting

AGENCY: Federal Aviation Administration (FAA), DOT.

ACTION: Notice of public meeting.

SUMMARY: This notice announces a public meeting of the FAA's Aging Transport Systems Rulemaking Advisory Committee (ATSRAC).

DATES: The FAA will hold the meeting on January 23 and 24, 2002 from 9 a.m. to 4 p.m. on the first day and from 8 a.m. to 3:30 p.m. on the second day.

ADDRESSES: Northwest Airlines Training Facility, 1000 Inner Loop Road, Atlanta, Georgia 30337.

FOR FURTHER INFORMATION CONTACT: Shirley Stroman, Office of Rulemaking, ARM-208, FAA, 800 Independence Avenue, SW, Washington, DC 20591; telephone (202) 267-7470; fax (202) 267-5075; or e-mail shirley.stroman@faa.gov.

SUPPLEMENTARY INFORMATION: This notice announces a meeting of the Aging Transport Systems Rulemaking Advisory Committee, which will be held at the Northwest Airlines Training Facility, 1000 Inner Loop Road, Atlanta, Georgia 30337.

The agenda topics for the meeting will include the following:

Day One

• Aging Affects on Engine Wiring

• Small Transport Aircraft Study Plan

• Enhanced Airworthiness Program for Airplane Systems Update

• Research and Development Update

• Flammability Presentation

• FAA Economist Overview

• Intrusive Inspection Recommendations Status

Day Two

• Standard Wire Practice Manual Working Group and Enhanced Training Program for Wire Systems Working Group Interim Reports

• Wire System Certification Requirements Working Group and Enhance Maintenance Criteria for Systems Working Group Status Reports

Meeting attendance is open to the public. However, space will be limited by the size of the available meeting room. The FAA will provide teleconference services to individuals who wish to participate by telephone and who submit their requests before January 15th. If you use the teleconference service from within the Washington, DC metropolitan calling area, the call would be considered local. However, callers from outside this calling area will be responsible for paying long-distance charges.

In addition to teleconferencing services, we will provide sign and oral interpretation, as well as a listening device if requests are made within 7 calendar days before the meeting. You may arrange for these services by contacting the person listed under the FOR FURTHER INFORMATION CONTACT heading of this notice.

The public may present written statements to the Committee by providing 20 copies to the Committee's Executive Director or by bringing the copies to the meeting. Public statements will only be considered if time permits.

Issued in Washington, DC on December 31, 2001.
Ida M. Klepper,
Acting Director, Office of Rulemaking.

[FR Doc. 02-259 Filed 1-3-02; 8:45 am]

BILLING CODE 4910-13-M